ENVIRONMENTAL PROTECTION AGENCY

[EPA-HQ-OA-2015-0245; FRL-9940-73-OA]

Notification of Teleconferences of the Science Advisory Board; Hydraulic Fracturing Research Advisory Panel

AGENCY: Environmental Protection Agency (EPA).

ACTION: Notice.

SUMMARY: The EPA Science Advisory Board (SAB) Staff Office announces four public teleconferences of the SAB Hydraulic Fracturing Research Advisory Panel as part of the peer review of the EPA draft report, Assessment of the Potential Impacts of Hydraulic Fracturing for Oil and Gas on Drinking Water Resources, (May, 2015 External Review Draft, EPA/600/R-15/047).

DATES: The public teleconferences will be held on the following dates: Monday, February 1, 2016 from 11:00 a.m. to 6:00 p.m. (Eastern Time); Tuesday, February 2, 2016 from 11:00 a.m. to 6:00 p.m. (Eastern Time); Monday, March 7, 2016 from 11:00 a.m. to 6:00 p.m. (Eastern Time); and Thursday, March 10, 2016 from 12:00 p.m. to 6:00 p.m. (Eastern Time).

ADDRESSES: The teleconferences will be conducted by telephone only.

FOR FURTHER INFORMATION CONTACT: Members of the public who wish to obtain further information regarding these public teleconferences may contact Edward Hanlon, Designated Federal Officer, by telephone: (202) 564-2134 or email at hanlon.edward@epa.gov. The SAB mailing address is: U.S. EPA Science Advisory Board (1400R), U.S. Environmental Protection Agency, 1200 Pennsylvania Avenue NW., Washington, DC 20460. General information about the SAB, including information concerning the SAB teleconferences announced in this notice, may be found on the SAB Web site at http://www.epa.gov/sab.

Technical Contact for EPA's Draft Report: Any technical questions concerning EPA's draft report should be directed to Dr. Jeffrey Frithsen, National Center for Environmental Assessment, Office of Research and Development, U.S. EPA, 1200 Pennsylvania Avenue NW., Mail Code 8601P, Washington, DC 20460, telephone (703) 347-8623 or via email at frithsen.jeff@epa.gov.

SUPPLEMENTARY INFORMATION:

Background: The SAB was established pursuant to the Environmental Research, Development, and Demonstration Authorization Act (ERDDAA), codified at 42 U.S.C. 4365, to provide independent scientific and technical advice to the Administrator on the technical basis for Agency positions and regulations. The SAB is a Federal Advisory Committee chartered under the Federal Advisory Committee Act (FACA), 5 U.S.C., App. 2. The SAB will comply with the provisions of FACA and all appropriate SAB Staff Office procedural policies. Pursuant to FACA and EPA policy, notice is hereby given that the SAB Hydraulic Fracturing Research Advisory Panel will hold four public teleconferences as part of the peer review of the EPA draft report, Assessment of the Potential Impacts of Hydraulic Fracturing for Oil and Gas on Drinking Water Resources, (May, 2015 External Review Draft, EPA/600/R-15/047).

The EPA's Office of Research and Development (ORD) has developed a draft assessment report concerning the relationship between hydraulic fracturing and drinking water in the United States. The purpose of the report, Assessment of the Potential Impacts of Hydraulic Fracturing for Oil and Gas on Drinking Water Resources, (May, 2015 External Review Draft, EPA/600/R-15/047), is to synthesize available scientific literature and data to assess the potential for hydraulic fracturing for oil and gas to impact the quality or quantity of drinking water resources, and identify factors affecting the frequency or severity of any potential impacts. As noticed in 80 FR 32111-32113, the SAB Hydraulic Fracturing Research Advisory Panel held a face-to-face meeting on October 28-30, 2015 to conduct a peer review of the agency's draft report. As noticed in 80 FR 69652-69653, the SAB Hydraulic Fracturing Research Advisory Panel held a public teleconference on December 3, 2015, to complete agenda items from the October 28-30, 2015, Panel meeting.

The purpose of the February 1, 2016, public teleconference is for the SAB Hydraulic Fracturing Research Advisory Panel to discuss its draft report regarding its peer review of the agency's draft report. If the SAB Staff Office determines that there will be insufficient time during the February 1, 2016, teleconference for the Panel to complete discussion on its draft report or to accommodate the members of the public who registered in advance to provide oral public comments, the teleconference on February 2, 2016, will be held to provide additional time for the Panel's discussions or for oral public comments. The purpose of the March 7, 2016, teleconference is for the SAB Hydraulic Fracturing Research Advisory Panel to further discuss its draft report regarding its peer review of the agency's draft report. If the SAB Staff Office determines that there will be insufficient time during the March 7, 2016, teleconference for the Panel to complete discussion on its draft report or to accommodate the members of the public who registered in advance to provide oral public comments, the teleconference on March 10, 2016, will be held to provide additional time for the Panel's discussions or for oral public comments.

Availability of Meeting Materials: Additional background on this SAB activity, the teleconference agendas, draft panel report, and other materials for the teleconferences will be posted on the SAB Web site at http://yosemite.epa.gov/sab/sabproduct.nsf/02ad90b136fc21ef85256eba00436459/f7a9db9abbac015785257e540052dd54!OpenDocument&Highlight=0,hydraulic,fracturing in advance of the teleconferences.

Procedures for Providing Public Input: Federal advisory committees and panels, including scientific advisory committees, provide independent advice to the EPA. Interested members of the public may submit relevant information on the topic of this advisory activity, and/or the group conducting the activity, for the SAB to consider during the advisory process. Input from the public to the SAB will have the most impact if it provides specific scientific or technical information or analysis for SAB committees and panels to consider or if it relates to the clarity or accuracy of the technical information.

Throughout the Panel review process, there will be opportunities for the public to provide comments. For example, the public was invited to provide comments to the Docket on the EPA's charge questions to the SAB and the draft EPA report and provide oral statements to the Panel during the Panel teleconferences and meeting, and will have opportunity to provide comments to the Docket on the draft EPA report and the SAB Panel's draft report, provide oral statements to the Panel during upcoming Panel teleconferences, and provide oral and written comments in preparation for quality review of the SAB Panel's draft report by the Chartered SAB. Members of the public wishing to provide written comments may submit them to the EPA Docket electronically via www.regulations.gov, by email, by mail, by facsimile, or by hand delivery/courier. Please follow the detailed instructions provided in the written statements section of this notice. Members of the public wishing to provide oral statements to the SAB Panel should contact the DFO directly.

Oral Statements: In general, individuals or groups requesting to present an oral statement at a public teleconference will be limited to three minutes per speaker. To be placed on the public speaker list for the February 1, 2016, teleconference, interested parties should notify Mr. Edward Hanlon, DFO, by email no later than January 25, 2016. To be placed on the public speaker list for the March 7, 2016 teleconference, interested parties should notify Mr. Edward Hanlon, DFO, by email no later than February 29, 2016. Written Statements: Written statements for the February 1, 2016, teleconference should be received in the EPA Docket by January 21, 2016, so that the information may be made available to the SAB Panel sufficiently in advance of the teleconference for the Panel's consideration. Written statements for the March 7, 2016, teleconference should be received in the EPA Docket by February 22, 2016, so that the information may be made available to the SAB Panel sufficiently in advance of the teleconference for the Panel's consideration.

Written statements should be identified by Docket ID No. EPA-HQ-OA-2015-0245 and submitted to the Docket at www.regulations.gov by one of the following methods:

• www.regulations.gov: Follow the on-line instructions for submitting comments.

• EMail: Docket_OEI@epa.gov: Include the docket number in the subject line of the message.

• Mail: Office of Environmental Information (OEI) Docket (Mail Code: 28221T), Docket ID No. EPA-HQ-OA-2015-0245, U.S. Environmental Protection Agency, 1200 Pennsylvania Ave. NW., Washington, DC 20460. The phone number is (202) 566-1752.

• Hand Delivery: The OEI Docket is located in the EPA headquarters Docket Center, Room 3334, EPA West Building, 1301 Constitution Ave. NW., Washington, DC. The EPA Docket Center Public Reading Room is open from 8:30 a.m. to 4:30 p.m., Monday through Friday, excluding legal holidays. The telephone number for the Public Reading Room is (202) 566-1744. Deliveries are only accepted during the docket's normal hours of operation, and special arrangements should be made for deliveries of boxed information.

• Fax: (202) 566-9744

Public comments submitted after January 21, 2016 for the February 1, 2016, teleconference will be marked late, and should be submitted to the Docket by email, mail, hand delivery or fax (see detailed instructions above). Public comments submitted after February 22, 2016 for the March 7, 2016, teleconference will be marked late, and should be submitted to the Docket by email, mail, hand delivery or fax (see detailed instructions above). Consistent with SAB Staff Office general practice, comments received after January 21, 2016 for the February 1, 2016, teleconference, and after February 22, 2016 for the March 7, 2016, teleconference, will be made available to the SAB Panel as soon as practicable.

It is EPA's policy to include all comments received in the public docket without change and to make the comments available on-line at www.regulations.gov, including any personal information provided, unless a comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email directly to EPA without going through www.regulations.gov, your email address will be automatically captured and included as part of the comment that is placed in the public docket and made available on the Internet. If you submit an electronic comment, EPA recommends that you include your name and other contact information in the body of your comment and with any disk or CD-ROM you submit. If EPA cannot read your comments due to technical difficulties and cannot contact you for clarification, the SAB Panel may not be able to consider your comments. Electronic files should avoid the use of special characters and any form of encryption and be free of any defects or viruses. For additional information about EPA's public docket, visit the EPA Docket Center homepage at www.epa.gov/epahome/dockets.htm.

Documents in the docket are listed in the www.regulations.gov index. Although listed in the index, some information is not publicly available, e.g., CBI or other information whose disclosure is restricted by statute. Certain other material, such as copyrighted material will be publicly available only in hard copy. Publicly available docket materials are available either electronically at www.regulations.gov or in hard copy at the OEI Docket in the EPA Headquarters Docket Center.

Accessibility: For information on access or services for individuals with disabilities, please contact Mr. Edward Hanlon at the phone number or email address noted above, preferably at least ten days prior to the meeting to give EPA as much time as possible to process your request.

Dated: December 22, 2015.
Thomas H. Brennan,
Deputy Director, EPA Science Advisory Board Staff Office.

[FR Doc. 2015-32738 Filed 12-28-15; 8:45 am]

BILLING CODE 6560-50-P